DEPARTMENT OF STATE

[Public Notice 4680]

Bureau of Nonproliferation; Imposition of Nonproliferation Measures Against Thirteen Entities, Including Ban on U.S. Government Procurement

SUMMARY: A determination has been made that thirteen entities have engaged in activities that require the imposition of measures pursuant to Section 3 of the Iran Nonproliferation Act of 2000, which provides for penalties on entities for the transfer to Iran of equipment and technology controlled under multilateral export control lists (Missile Technology Control Regime, Australia Group, Chemical Weapons Convention, Nuclear Suppliers Group, Wassenaar Arrangement) or otherwise having the potential to make a material contribution to the development of weapons of mass destruction (WMD) or cruise or ballistic missile systems. The latter category includes (a) items of the same kind as those on multilateral lists, but falling below the control list parameters, when it is determined that such items have the potential of making a material contribution to WMD or cruise or ballistic missile systems, and (b) other items with the potential of making such a material contribution, when added through case-by-case decisions.

EFFECTIVE DATE: April 1, 2004.

FOR FURTHER INFORMATION CONTACT: On general issues: Vann H. Van Diepen, Office of Chemical, Biological and Missile Nonproliferation, Bureau of Nonproliferation, Department of State, (202-647-1142). On U.S. Government procurement ban issues: Gladys Gines, Office of the Procurement Executive, Department of State, (703-516-1691).

SUPPLEMENTARY INFORMATION: Pursuant to sections 2 and 3 of the Iran Nonproliferation Act of 2000 (Pub. L. 106-178), the U.S. Government determined on March 19, 2004, that the measures authorized in section 3 of the Act shall apply to the following foreign entities identified in the report submitted pursuant to section 2(a) of the Act:

Baranov Engine Building Association Overhaul Facility (Russia) and any successor, sub-unit, or subsidiary thereof;

Beijing Institute of Opto-Electronic Technology (BIOET) (China) and any successor, sub-unit, or subsidiary thereof;

Belarus Belvneshpromservice (Belarus) and any successor, sub-unit, or subsidiary thereof;

Blagoja Samakoski (Macedonia);

Changgwang Sinyong Corporation (North Korea) and any successor, sub-unit, or subsidiary thereof;

China North Industries Corporation (NORINCO) (China) and any successor, sub-unit, or subsidiary thereof;

China Precision Machinery Import/Export Corporation (CPMIEC) (China) and any successor, sub-unit, or subsidiary thereof;

Elmstone Service and Trading FZE (LLC) (United Arab Emirates) and any successor, sub-unit, or subsidiary thereof;

Goodly Industrial Company Ltd. (Taiwan) and any successor, sub-unit, or subsidiary thereof;

Mikrosam (Macedonia) and any successor, sub-unit, or subsidiary thereof;

Oriental Scientific Instruments Corporation (OSIC) (China) and any successor, sub-unit, or subsidiary thereof;

Vadim V. Vorobey (Russia);

Zibo Chemical Equipment Plant, aka Chemet Global Ltd., aka South Industries Science and Technology Trading Company, Ltd. (China) and any successor, sub-unit, or subsidiary thereof.

Accordingly, pursuant to the provisions of the Act, the following measures are imposed on these entities:

1. No department or agency of the United States Government may procure, or enter into any contract for the procurement of, any goods, technology, or services from these foreign persons;

2. No department or agency of the United States Government may provide any assistance to the foreign persons, and these persons shall not be eligible to participate in any assistance program of the United States Government;

3. No United States Government sales to the foreign persons of any item on the United States Munitions List (as in effect on August 8, 1995) are permitted, and all sales to these persons of any defense articles, defense services, or design and construction services under the Arms Export Control Act are terminated; and,

4. No new individual licenses shall be granted for the transfer to these foreign persons of items the export of which is controlled under the Export Administration Act of 1979 or the Export Administration Regulations, and any existing such licenses are suspended.

These measures shall be implemented by the responsible departments and agencies of the United States Government and will remain in place for two years from the effective date, except to the extent that the Secretary of State or Deputy Secretary of State may subsequently determine otherwise. A new determination will be made in the event that circumstances change in such a manner as to warrant a change in the duration of sanctions.

Dated: April 1, 2004.
John S. Wolf,
Assistant Secretary of State for Nonproliferation, Department of State.

[FR Doc. 04-7870 Filed 4-6-04; 8:45 am]

BILLING CODE 4710-25-P